DEPARTMENT OF THE INTERIOR

Bureau of Reclamation

[RR83570000, 156R5065C6, RX.59389832.1009676]

Agency Information Collection; Renewal of a Currently Approved Information Collection; Comment Request

AGENCY: Bureau of Reclamation, Interior.

ACTION: Notice and request for comments.

SUMMARY: We, the Bureau of Reclamation, intend to submit a request for renewal of an existing approved information collection to the Office of Management and Budget (OMB): Recreation Use Data Report, OMB Control Number 1006-0002. As part of its continuing effort to reduce paperwork and respondent burdens, Reclamation invites other Federal agencies, State, local, or tribal governments that manage recreation sites at Reclamation projects; concessionaires, and not-for-profit organizations who operate concessions on Reclamation lands; and the public, to comment on this information collection.

DATES: Submit written comments on this information collection request on or before November 2, 2015.

ADDRESSES: Send written comments or requests for copies of the forms to Mr. Jerome Jackson, Bureau of Reclamation, Office of Policy and Administration, 84-57000, P.O. Box 25007, Denver, CO 80225-0007; or via email to jjackson@usbr.gov. Please reference OMB No. 1006-0002 in your comments.

FOR FURTHER INFORMATION CONTACT: Mr. Jerome Jackson at (303) 445-2712.

SUPPLEMENTARY INFORMATION:

I. Abstract

The Bureau of Reclamation (Reclamation) collects agency-wide recreation and concession information to fulfill congressional reporting requirements pursuant to current public laws, including the Land and Water Conservation Fund Act (Pub. L. 88-578), the Federal Water Project Recreation Act (Pub. L. 89-72), and the Federal Lands Recreation Enhancement Act (Pub. L. 108-477). In addition, collected information will permit relevant program assessments of resources managed by Reclamation, its recreation managing partners, and/or concessionaires for the purpose of contributing to the implementation of Reclamation's mission. More specifically, the collected information enables Reclamation to (1) evaluate the effectiveness of program management based on existing recreation and concessionaire resources and facilities, and (2) validate the efficiency of resources for public use within partner managed recreation resources, located on Reclamation project lands in the 17 Western States.

II. Data

OMB Control Number: 1006-0002.

Title: Recreation Use Data Report.

Form Numbers: Form 7-2534—Part I, Managing Partners and Direct Managed Recreation Areas; Form 7-2535—Part II, Concessionaires.

Frequency: Annually.

Respondents: State, local, or tribal governments; agencies who manage Reclamation's recreation resources and facilities; and commercial concessions, subconcessionaires, and nonprofit organizations located on Reclamation lands with associated recreation services.

Estimated Total Number of Respondents: 270.

Estimated Number of Responses per Respondent: 1.

Estimated Total Number of Annual Responses: 270.

Estimated Total Annual Burden on Respondents: 136 hours.

Estimate of Burden for Each Form:

Form number | Burden estimate per form (in minutes) | Annual number of respondents | Annual burden on respondents (in hours)
Form 7-2534 (Part 1, Managing Partners) | 30 | 155 | 78
Form 7-2535 (Part 2, Concessionaires) | 30 | 115 | 58
Total Burden Hours |  |  | 136

III. Request for Comments

We invite your comments on:

(a) Whether the collection of information is necessary for the proper performance of our functions, including whether the information will have practical use;

(b) the accuracy of our estimated time and cost burden of the collection of information, including the validity of the methodology and assumptions used;

(c) ways to enhance the quality, usefulness, and clarity of the information to be collected; and

(d) ways to minimize the burden of the collection of information on respondents, including increased use of automated collection techniques or other forms of information technology.

We will summarize all comments received regarding this notice. We will publish that summary in the Federal Register when the information collection request is submitted to OMB for review and approval.

IV. Public Disclosure

Before including your address, phone number, email address, or other personal identifying information in your comment, you should be aware that your entire comment—including your personal identifying information—may be made publicly available at any time. While you can ask us in your comment to withhold your personal identifying information from public review, we cannot guarantee that we will be able to do so.

Dated: August 12, 2015.
Roseann Gonzales,
Director, Policy and Administration.

[FR Doc. 2015-21919 Filed 9-2-15; 8:45 am]

BILLING CODE 4332-90-P